DEPARTMENT OF AGRICULTURE

Farm Service Agency

Release of Georgia Tobacco Farmers' Social Security Numbers to the State of Georgia

AGENCY: Farm Service Agency, USDA.

ACTION: Notice of Intent to Release Records and Opportunity to Opt Out of the Release.

SUMMARY: This notice announces the intention of the Secretary of Agriculture to release the social security numbers of those Georgia tobacco farmers who receive Tobacco Loss Assistance Program 2000 (TLAP) payments; and provides notice of the method in which interested parties can opt out of that release. The release will be to the State of Georgia which will distribute an identical sum of State funds to each TLAP 2000 Georgia farmer.

EFFECTIVE DATE: October 6, 2000.

ADDRESSES: Notices should be mailed to Charles Hatcher, Farm Service Agency (FSA), Tobacco and Peanuts Division, STOP 0514, 1400 Independence Avenue, SW, Washington, DC 20250-0514.

FOR FURTHER INFORMATION CONTACT: Misty L. Jones, telephone (202) 720-0200.

SUPPLEMENTARY INFORMATION: The TLAP 2000 Program is provided for in Section 204(b) of the Agricultural Risk Protection Act of 2000 (ARPA), Public Law 106-224, and is a program in which Federal payments are made to tobacco farmers and other parties with an interest in certain kinds of tobacco which have had reduced quotas. Tobacco farmers who applied for TLAP 2000 payments were required to provide to the Farm Service Agency their social security numbers. The ARPA of 2000, which provided funds for TLAP 2000, contains the following restriction as to the State of Georgia:

The Secretary shall use the amount allocated to the State of Georgia under paragraph (3) to make payments to eligible persons in Georgia only if the State of Georgia agrees to use an equal amount (not to exceed $13,000,000) to make payments at the same time, or subsequently, to the same eligible persons in the same manner as provided for the Federal payment under paragraphs (4) and (5).

In order to efficiently and expeditiously make the matching payments to Georgia tobacco producers, the State of Georgia has requested that the Farm Service Agency provide the names, addresses, social security numbers, and the amount of money to be paid to each farmer. However, there may be some Georgia tobacco farmers who would rather not have their social security numbers released to the State. Because these matching State payments can provide much needed help to Georgia producers, the Secretary intends to provide the social security numbers to the State of Georgia, except in the case of those parties who wish to opt out of the release. Those who wish to opt out of the release should send notice in writing of their election to Charles Hatcher, Farm Service Agency, Tobacco and Peanuts Division, STOP 0514, 1400 Independence Avenue, SW, Washington, D.C. 20250-0514. Such notice must be received by October 25, 2000.

Parties should understand that a request for an exemption from the disclosure could result in a delay in receiving a distribution from the State of Georgia or ineligibility for such a distribution. It is not expected that there will be many exemption requests filed. Accordingly, it appears that the record collections can be made at one location for re-routing to the national record center for processing.

Signed at Washington, D.C., on October 3, 2000.
Keith Kelly,
Administrator, Farm Service Agency.

[FR Doc. 00-25949 Filed 10-6-00; 8:45 am]

BILLING CODE 3410-05-U